NUCLEAR REGULATORY COMMISSION

[Docket No. 50-443-LR; ASLBP No. 10-906-02-LR-BD01]

Atomic Safety and Licensing Board; Nextera Energy Seabrook, LLC (Seabrook Station, Unit 1); Notice of Hearing

Before Administrative Judges: Paul S. Ryerson, Chairman; Dr. Michael F. Kennedy, Dr. Richard E. Wardwell.

This proceeding concerns the application filed by NextEra Energy Seabrook, LLC to extend its operating license for Seabrook Station, Unit 1 for an additional twenty years. In a February 15, 2011 memorandum and order, the Board ruled that each of the five petitioning organizations (now Intervenors) has standing to intervene in this proceeding and admitted four of the contentions proffered by the Intervenors, in whole or in part.¹

¹ LBP-11-02, 73 NRC _ ,_ (slip op. at 1-2) (Feb. 15, 2011).

Accordingly, the Board will conduct an evidentiary hearing concerning the admitted contentions, as limited by the Board's February 15, 2011 order.² The specific time, date and location of the evidentiary hearing will be announced in a subsequent notice or order.

² Id. at 63.

It is so ordered.

For the Atomic Safety and Licensing Board.
Dated in Rockville, Maryland, on October 3, 2011.
Paul S. Ryerson,
Chairman, Administrative Judge.

[FR Doc. 2011-26052 Filed 10-6-11; 8:45 am]

BILLING CODE 7590-01-P